DEPARTMENT OF EDUCATION

[Docket No.: ED-2020-SCC-0155]

Agency Information Collection Activities; Submission to the Office of Management and Budget for Review and approval; Comment Request; Early Childhood Longitudinal Study, Kindergarten Class of 2022-23 (ECLS-K:2023) Kindergarten and First-Grade Field Test Data Collection, National Sampling, and National Recruitment

AGENCY: Institute of Education Sciences (IES), Department of Education (ED).

ACTION: Notice.

SUMMARY: In accordance with the Paperwork Reduction Act of 1995, ED is proposing a revision of a currently approved information collection.

DATES: Interested persons are invited to submit comments on or before December 30, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Early Childhood Longitudinal Study, Kindergarten Class of 2022-23 (ECLS-K:2023) Kindergarten and First-Grade Field Test Data Collection, National Sampling, and National Recruitment.

OMB Control Number: 1850-0750.

Type of Review: A revision of a currently approved information collection.

Respondents/Affected Public: Individuals and Households Total Estimated Number of Annual Responses: 20,895.

Total Estimated Number of Annual Burden Hours: 15,510.

Abstract: The Early Childhood Longitudinal Study (ECLS) program, conducted by the National Center for Education Statistics (NCES) within the Institute of Education Sciences (IES) of the U.S. Department of Education (ED), draws together information from multiple sources to provide rich, descriptive data on child development, early learning, and school progress. The ECLS program studies deliver national data on children's status at birth and at various points thereafter; children's transitions to nonparental care, early care and education programs, and school; and children's experiences and growth through the elementary grades. The Early Childhood Longitudinal Study, Kindergarten Class of 2022-23 (ECLS-K:2023) is the fourth cohort in the series of early childhood longitudinal studies. The study will advance research in child development and early learning by providing a detailed and comprehensive source of current information on children's early learning and development, transitions into kindergarten and beyond, and progress through school. The ECLS-K:2023 will provide data about the population of children who will be kindergartners in the 2022-23 school year, and will go beyond its predecessor kindergarten cohort studies by adding a round of data collection in the spring prior to children's kindergarten year, known as the “preschool round.” Collecting parent data beginning in preschool will enable the study to measure influences on children's development before entry into formal schooling, including children's home environments and access to early care and education. The ECLS-K:2023 will focus on children's early school experiences continuing through the fifth grade, and will include collection of data from parents, teachers, and school administrators, as well as direct child assessments. This request is to conduct a field test of the ECLS-K:2023 preschool data collection activities from January through October 2020, to field test the preschool data collection materials and procedures. This ECLS-K:2023 preschool field test will be followed by the kindergarten-first grade field test (planned for August-December 2021), the spring preschool national data collection (January-June 2022), and the fall (August-December 2022) and spring (March-July 2023) kindergarten national data collections—which will be requested under separate clearance submissions.

Dated: November 23, 2020.
Stephanie Valentine,
PRA Coordinator, Strategic Collections and Clearance Governance and Strategy Division, Office of Chief Data Officer, Office of Planning, Evaluation and Policy Development.

[FR Doc. 2020-26267 Filed 11-27-20; 8:45 am]

BILLING CODE 4000-01-P